DEPARTMENT OF COMMERCE

National Oceanic and Atmospheric Administration

RIN 0648-XC841

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Committee to consider actions affecting New England fisheries in the exclusive economic zone (EEZ). Recommendations from this group will be brought to the full Council for formal consideration and action, if appropriate.

DATES: This meeting will be held on Wednesday, September 18, 2013 at 9 a.m.

ADDRESSES:

Meeting address: The meeting will be held at the Best Western Hotel, 580 US Highway 1, Interstate Traffic Circle, Portsmouth, NH 03801; telephone: (603) 436-7600; fax: (603) 436-7600.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Committee will review scallop survey information and preliminary recommendations from the Scallop Plan Development Team (PDT) for FY 2014 and FY 2015 (default) fishery specifications (Framework 25). The Committee will also provide input on other measures under consideration in Framework 25: (1) accountability measures for the Southern New England/Mid-Atlantic windowpane flounder sub-ACL (annual catch limit); and (2) measures to address unused 2014 Closed Area I access area trips. The Committee will review a draft of the Limited Access General Category Individual Fleet Quota (LAGC IFQ) Performance Report being prepared by the Scallop PDT. The IFQ Report is not final and will not be presented to the Council at this time but Committee members will have the opportunity to provide initial feedback. The Committee will also discuss possible priorities for scallop related actions for 2014 and make recommendations to the Scallop Committee for consideration. In addition, the Committee will briefly review the overall findings of the recent biological opinion of the sea scallop fishery related to sea turtles and Atlantic Sturgeon. There will be a closed session to review/recommend Advisory panel applications for the next 3-year term (2014-16) term). Other business may be discussed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 28, 2013.
Tracey L. Thompson,
Acting Deputy Director, Office of Sustainable Fisheries, National Marine Fisheries Service.

[FR Doc. 2013-21367 Filed 8-30-13; 8:45 am]

BILLING CODE 3510-22-P